DEPARTMENT OF COMMERCE

International Trade Administration

[A-533-808]

Certain Stainless Steel Wire Rods From India: Final Results of the Expedited Fourth Sunset Review of the Antidumping Duty Order

AGENCY: Enforcement and Compliance, International Trade Administration, Department of Commerce.

SUMMARY: As a result of this review, the Department of Commerce (the Department) finds that revocation of the antidumping duty (AD) order on certain stainless steel wire rods from India (wire rods) would likely lead to a continuation or recurrence of dumping at the margins identified in the “Final Results of Review” section of this notice.

DATES: Effective April 6, 2017.

FOR FURTHER INFORMATION CONTACT: Andre Gziryan or Minoo Hatten, AD/CVD Operations, Office I, Enforcement and Compliance, International Trade Administration, U.S. Department of Commerce, 1401 Constitution Avenue NW., Washington, DC 20230; telephone: (202) 482-2201 and (202) 482-1690, respectively.

SUPPLEMENTARY INFORMATION:

Background

On December 1, 1993, the Department published the AD order on wire rods from India.¹ On December 1, 2016, the Department published the notice of initiation of the fourth sunset review of the AD order on wire rods,² pursuant to section 751(c) of the Tariff Act of 1930, as amended (the Act).

¹ Antidumping Duty Order: Certain Stainless Steel Wire Rods from India, 58 FR 63335 (December 1, 1993).

² See Initiation of Five-Year (“Sunset”) Review, 81 FR 86697 (December 1, 2016) (Notice of Initiation).

On December 13, 2016, the Department received a notice of intent to participate on behalf of Carpenter Technology Corporation, North American Stainless, and Universal Stainless & Alloy Products, Inc. (collectively, the domestic interested parties) within the 15-day period specified in 19 CFR 351.218(d)(1)(i). The domestic interested parties claimed interested party status under section 771(9)(C) of the Act as manufacturers in the United States of a domestic like product for the proceeding.

On January 3, 2017, the Department received a complete substantive response to the Notice of Initiation from the domestic interested parties within the 30-day period, specified in 19 CFR 351.218(d)(3)(i).³ We received no substantive responses from any respondent interested parties. As a result, pursuant to section 751(c)(3)(B) of the Act and 19 CFR 351.218(e)(1)(ii)(C)(2), the Department conducted an expedited (120-day) sunset review of the AD order on wire rods from India.

³ See Letter from domestic interested parties regarding “Five-Year (Sunset) Review of the Antidumping Duty Order on Stainless Steel Wire Rod From India—Petitioners' Substantive Response,” dated January 3, 2017.

Scope of the Order

The merchandise covered by the AD order is certain stainless steel wire rods from India, which are hot-rolled or hot-rolled annealed and/or pickled rounds, squares, octagons, hexagons or other shapes, in coils. The wire rods subject to this order are currently classifiable under subheadings 7221.00.0005, 7221.00.0017, 7221.00.0018, 7221.00.0030, 7221.00.0045, and 7221.00.0075 of the Harmonized Tariff Schedule of the United States (HTSUS). Although the HTSUS subheadings are provided for convenience and customs purposes, the written description of the merchandise subject to the order is dispositive.⁴

⁴ See Memorandum from Associate Deputy Assistant Secretary Gary Taverman to Acting Assistant Secretary Ronald K. Lorentzen entitled, “Issues and Decision Memorandum for the Final Results of the Expedited Sunset Review of the Antidumping Duty Order on Certain Stainless Steel Wire Rods from India,” dated concurrently with this notice (Issues and Decision Memorandum), at 2, for a full description of the scope of the order.

Analysis of Comments Received

All issues raised in this sunset review, including the likelihood of continuation or recurrence of dumping and the magnitude of the margins likely to prevail if the order is revoked, are addressed in the Issues and Decision Memorandum, which is hereby adopted by this notice.⁵ The Issues and Decision Memorandum is a public document and is on file electronically via Enforcement and Compliance's Antidumping and Countervailing Duty Centralized Electronic Service System (ACCESS). ACCESS is available to registered users at http://access.trade.gov, and to all parties in the Central Records Unit, Room B8024 of the main Department of Commerce building. In addition, a complete version of the Issues and Decision Memorandum can be accessed directly on the Internet at http://enforcement.trade.gov/frn.

⁵ See Issues and Decision Memorandum.

Final Results of Sunset Review

Pursuant to sections 751(c)(1) and 752(c)(1) and (3) of the Act, the Department determines that revocation of the AD order on wire rods from India would be likely to lead to continuation or recurrence of dumping, and that the margins likely to prevail would be weighted-average margins up to 48.80 percent.

Notification Regarding Administrative Protective Order

This notice serves as the only reminder to the parties subject to administrative protective order (APO) of their responsibility concerning the return or destruction of propriety information disclosed under APO in accordance with 19 CFR 351.305. Timely written notification of the return or destruction of APO materials or conversion to judicial protective order is hereby requested. Failure to comply with the regulations and terms of an APO is a violation subject to sanction.

We are issuing and publishing the final results and notice in accordance with sections 751(c), 752(c), and 777(i)(1) of the Act and 19 CFR 351.221(c)(5)(ii).

Dated: March 30, 2017.
Ronald K. Lorentzen,
Acting Assistant Secretary for Enforcement and Compliance.

[FR Doc. 2017-06828 Filed 4-5-17; 8:45 am]

BILLING CODE 3510-DS-P